DEPARTMENT OF TRANSPORTATION

Pipeline and Hazardous Materials Safety Administration

[Docket No. PHMSA-2022-0005]

Pipeline Safety: Information Collection Activities

AGENCY: Pipeline and Hazardous Materials Safety Administration (PHMSA), DOT.

ACTION: Notice and request for comments.

SUMMARY: In compliance with the Paperwork Reduction Act of 1995, this notice announces that the information collection requests abstracted below are being forwarded to the Office of Management and Budget (OMB) for review and comment. A Federal Register notice with a 60-day comment period soliciting comments on the information collections was published on February 2, 2022.

DATES: Interested persons are invited to submit comments on or before June 10, 2022.

ADDRESSES: The public is invited to submit comments regarding this information collection request, including suggestions for reducing the burden, to the Office of Management and Budget, Attention: Desk Officer for the Office of the Secretary of Transportation, 725 17th Street NW, Washington, DC 20503. Comments can also be submitted electronically at www.reginfo.gov/public/do/PRAMain.

FOR FURTHER INFORMATION CONTACT: Angela Hill by telephone at 202-680-2034, by email at angela.dow@dot.gov, or by mail at DOT, PHMSA, 1200 New Jersey Avenue SE, PHP-30, Washington, DC 20590-0001.

SUPPLEMENTARY INFORMATION: Title 5, Code of Regulations (CFR) section 1320.8(d), requires PHMSA to provide interested members of the public and affected agencies the opportunity to comment on information collection and recordkeeping requests before they are submitted to OMB for approval. In accordance with this regulation, on February 2, 2022, (87 FR 5937) PHMSA published a Federal Register notice with a 60-day comment period soliciting comments on its plan to request the renewal of the four impacted information collections abstracted below. PHMSA received no comments in response to these information collection renewal requests. This notice announces that PHMSA will submit the following four information collection requests to the OMB for renewal.

The following information is provided for each of these information collections: (1) Title of the information collection; (2) OMB control number; (3) Current expiration date; (4) Type of request; (5) Abstract of the information collection activity; (6) Description of affected public; (7) Estimate of total annual reporting and recordkeeping burden; and (8) Frequency of collection.

PHMSA will request a three-year term of approval for each of the following information collection activities.

1. Title: Response Plans for Onshore Oil Pipelines.

OMB Control Number: 2137-0589.

Current Expiration Date: 6/30/2022.

Type of Request: Renewal without change of a currently approved information collection.

Abstract: Title 49 CFR part 194 requires an operator of an onshore oil pipeline facility to prepare and submit an oil spill response plan to PHMSA for review and approval. This mandatory recordkeeping requirement details operators' plans to prepare for emergency situations involving oil spills. This mandatory information collection is used by PHMSA to determine if an operator is compliant with the requirements in part 194. Plans are submitted and/or updated annually. This information collection covers operators' submission of facility response plans for onshore hazardous liquid pipeline facilities.

Affected Public: Operators of onshore oil pipeline facilities.

Annual Reporting and Recordkeeping Burden:

Total Annual Responses: 540.

Total Annual Burden Hours: 73,980.

Frequency of Collection: On occasion.

2. Title: Pipeline Integrity Management in High Consequence Areas Gas Transmission Pipeline Operators.

OMB Control Number: 2137-0610.

Current Expiration Date: 6/30/2022.

Type of Request: Renewal without change of a currently approved information collection.

Abstract: This mandatory information collection request pertains to gas transmission operators that are required to comply with PHMSA's Gas Transmission Integrity Management Program regulations. The information collection requires gas transmission operators in high consequence areas to maintain a written integrity management program and keep records that demonstrate compliance with 49 CFR part 192, subpart O. Operators must maintain their integrity management records for the life of the pipeline, and PHMSA and/or state regulators may review those records as a part of inspections. Gas transmission operators are also required to report to PHMSA certain actions related to their integrity management program. This information collection supports DOT's strategic goal of safety by reducing the number of incidents in natural gas transmission pipelines.

Affected Public: Gas transmission operators.

Annual Reporting and Recordkeeping Burden:

Estimated number of responses: 733.

Estimated annual burden hours: 1,018,807.

Frequency of Collection: On occasion.

3. Title: Control Room Management Human Factors.

OMB Control Number: 2137-0624.

Current Expiration Date: 6/30/2022.

Type of Request: Renewal without change of a currently approved information collection.

Abstract: Operators of gas and hazardous liquid pipelines must develop, implement, and submit a human factors management plan designed to reduce risks associated with human factors in each control room. The information is used by PHMSA to determine compliance with federal pipeline safety regulations and is also used by agency and state officials to assist federal and state pipeline safety inspectors who audit this information when they conduct compliance inspections as well as to provide background for failure investigations.

Affected Public: Operators of natural gas and hazardous liquid pipelines.

Estimated number of responses: 2,702.

Estimated annual burden hours: 127,328.

Frequency of collection: On occasion.

4. Title: Excess Flow Valves—New Customer Notifications.

OMB Control Number: 2137-0631.

Current Expiration Date: 12/31/2022.

Type of Request: Renewal without change of a currently approved information collection.

Abstract: This information collection covers the reporting and recordkeeping requirements for gas pipeline operators associated with customer notifications pertaining to the installation of excess flow valves. Gas pipeline operators must notify customers of their right to request the installation of excess flow valves and keep records of those notifications. This information collection includes example of language that can be used to notify natural gas customers of their right to request the installation of an excess flow valve pursuant to § 192.383(d). Use of the language is voluntary but would comply with federal regulatory requirements.

Affected Public: Natural gas pipeline operators.

Annual Reporting and Recordkeeping Burden:

Estimated number of responses: 4,448.

Estimated annual burden hours: 4,448.

Frequency of Collection: On occasion.

Comments to Office of Management and Budget are invited on:

(a) The need for the proposed information, including whether the information will have practical utility in helping the agency to achieve its pipeline safety goals;

(b) The accuracy of the agency's estimate of the burden of the proposed collection;

(c) Ways to enhance the quality, utility, and clarity of the information to be collected; and

(d) Ways to minimize the burden on those who are to respond, including the use of appropriate automated, electronic, mechanical, or other technological collection techniques.

Authority: The Paperwork Reduction Act of 1995; 44 U.S.C. Chapter 35, as amended; and 49 CFR 1.48.

Issued in Washington, DC, on May 5, 2022, under authority delegated in 49 CFR 1.97.
John A. Gale,
Director, Standards and Rulemaking Division.

[FR Doc. 2022-10119 Filed 5-10-22; 8:45 am]

BILLING CODE 4910-60-P